FEDERAL DEPOSIT INSURANCE CORPORATION

Sunshine Act Meetings; Notice of a Change in Time of Agency Meeting

FEDERAL REGISTER CITATION OF PREVIOUS ANNOUNCEMENT: The previously announced meeting schedule of the Board of Directors, published at 85 FR 37658, has changed.

PREVIOUSLY ANNOUNCED TIME AND DATE OF THE MEETING: Thursday, June 25, 2020, at 2:30 p.m.

CHANGES IN THE MEETING: Pursuant to the provisions of the “Government in the Sunshine Act” (5 U.S.C. 552b), notice is hereby given that the previously announced meeting of the Board of Directors scheduled to be held on Thursday, June 25, 2020, at 2:30 p.m. (open session) has been RESCHEDULED for 10:00 a.m. that same day.

No earlier notice of the change in time of this meeting was practicable.

As previously announced, out of an abundance of caution related to current and potential coronavirus developments, the public's means to observe this Board meeting will be via a Webcast live on the internet and subsequently made available on-demand approximately one week after the event. Visit http://fdic.windrosemedia.com to view the live event. Visit http://fdic.windrosemedia.com/index.php?category=FDIC+Board+Meetings after the meeting. If you need any technical assistance, please visit our Video Help page at: https://www.fdic.gov/video.html.

CONTACT PERSON FOR MORE INFORMATION: Robert E. Feldman, Executive Secretary of the Corporation, at 202-898-7043.

Dated: June 25, 2020.
Robert E. Feldman,
Executive Secretary, Federal Deposit Insurance Corporation.

[FR Doc. 2020-14110 Filed 6-26-20; 11:15 am]

BILLING CODE P